FEDERAL COMMUNICATIONS COMMISSION

[CG Docket No. 14-157; DA 14-1871]

Termination of Dormant Proceedings

AGENCY: Federal Communications Commission.

ACTION: Notice.

SUMMARY: In this document, the Consumer and Governmental Affairs Bureau (CGB), terminates, as dormant, certain docketed Commission proceedings. The Commission believes that termination of these proceedings furthers the Commission's organizational goals of increasing the efficiency of its decision-making, modernizing the agency's processes in the digital age, and enhancing the openness and transparency of Commission proceedings for practitioners and the public.

DATES: Effective January 29, 2015.

FOR FURTHER INFORMATION CONTACT: Gayle Radley Teicher, Consumer and Governmental Affairs Bureau at (202) 418-1515 or by email at gayle.teicher@fcc.gov.

SUPPLEMENTARY INFORMATION: This is a synopsis of the Commission's Order, Termination of Certain Proceedings as Dormant, document DA 14-1871, adopted on December 22, 2014, and released on December 22, 2014 in CG Docket No. 14-157.

The full text of document DA 14-1871 and copies of any subsequently filed documents in this matter will be available for public inspection and copying via ECFS, and during regular business hours at the FCC Reference Information Center, Portals II, 445 12th Street SW., Room CY-A257, Washington, DC 20554. Document DA 14-1871 can also be downloaded in Word or Portable Document Format (PDF) at http://transition.fcc.gov/Daily_Releases/Daily_Business/2014/db1222/DA-14-1871A1.pdf. The spreadsheet associated with document DA 14-1871 listing the proceedings proposed for termination for dormancy is available in Word or Portable Document Format at http://transition.fcc.gov/Daily_Releases/Daily_Business/2014/db1222/DA-14-1871A2.pdf.

To request materials in accessible formats for people with disabilities (Braille, large print, electronic files, audio format), send an email to fcc504@fcc.gov or call the Consumer and Governmental Affairs Bureau at (202) 418-0530 (voice) or (202) 418-0432 (TTY).

Final Paperwork Reduction Act of 1995 Analysis

Document DA 14-1871 does not contain information collection requirements subject to the Paperwork Reduction Act of 1995, Public Law 104-13. In addition, therefore, it does not contain any information collection burden for small business concerns with fewer than 25 employees, pursuant to the Small Business Paperwork Relief Act of 2002, Public Law 107-198, see 44 U.S.C. 3506(c)(4).

Synopsis

1. In document DA 14-1871, the Consumer and Governmental Affairs Bureau (CGB) terminates, as dormant, the proceedings listed on the Attachment hereto. CGB believes that termination of these proceedings furthers the Commission's organizational goals of increasing the efficiency of its decision-making, modernizing the agency's processes in the digital age, and enhancing the openness and transparency of Commission proceedings for practitioners and the public. In addition, on the basis of further evaluation, CGB leaves open three proceedings included in the Fourth Dormant Proceedings Termination Public Notice, published at 79 FR 59769, October 3, 2014, namely Promoting Interoperability in the 700 MHz Commercial Spectrum, WT Docket No. 12-69, AT&T and Cellco Partnership D/B/A Verizon Wireless Seek FCC Consent to Assign or Transfer Control of Licenses and Authorizations and Modify a Spectrum Leasing Arrangement, WT Docket No. 09-104, and Atlantic Tele-Network, Inc. and Verizon Wireless seek FCC Consent to Transfer Licenses and Authorizations, WT Docket No. 09-119.

2. On February 4, 2011, the Commission released a Report and Order that, inter alia, amended § 0.141 of the Commission's organizational rules to delegate authority to the Chief, CGB to conduct periodic review of all open dockets with the objective of terminating those that were inactive. The Commission stated that termination of such proceedings also will include the dismissal as moot of any pending petition, motion, or other request for relief in the terminated proceeding that is procedural in nature or otherwise does not address the merits of the proceeding.

3. Following the release of the Procedure Order, 76 FR 24383, May 2, 2011, CGB, in consultation with the relevant other bureaus and offices, conducted a review of all open dockets and identified those dockets that could potentially be terminated. As a result of that process, CGB issued the First Dormant Proceedings Termination Public Notice, published at 76 FR 35892, June 20, 2011, listing the open dockets under consideration for termination, and providing interested parties the opportunity to file comments on these proposed terminations. Following these procedures, by Order released November 1, 2011, CGB terminated, as dormant the docketed proceedings listing in the attachment thereto. See 76 FR 70902, November 16, 2011. On February 15, 2012, CGB released the Second Dormant Proceedings Termination Public Notice, published at 77 FR 13322, March 6, 2012, listing open dockets under consideration for termination. On September 27, 2012, CGB released the Second Dormant Proceedings Termination Order, published at 77 FR 60934, October 5, 2012, in which it terminated as dormant the proceedings listed in the attachment thereto, located at http://hraunfoss.fcc.gov/edocs_public/attachmatch/DA-12-1545A1.pdf. On June 30, 2014, CGB released the Third Dormant Proceedings Termination Public Notice, published at 79 FR 42320, July 21, 2014. On September 15, 2014, CGB released the Third Dormant Proceedings Termination Order, published at 79 FR 58344, September 29, 2014, in which it terminated as dormant the proceedings listed in the attachment thereto, located at http://www.fcc.gov/article/da-14-1329a2.

4. On September 18, 2014, CGB released the Fourth Dormant Proceedings Termination Public Notice, published at 79 FR 59769, October 2, 2014. In response to the Fourth Dormant Proceedings Termination Public Notice, CGB received two comments requesting that certain proceedings noted in the Public Notice remain open.

5. Based on CGB's review of the record received in response to the Fourth Dormant Proceedings Termination Public Notice, it terminates the proceedings listed in document DA 14-1871 and leaves open three proceedings that had been listed in Attachment A to the Fourth Dormant Proceedings Termination Public Notice. See https://apps.fcc.gov/edocs_public/attachmatch/DA-14-1354A2.pdf. After review of the comments and CGB's further evaluation, it has determined that WTB Dockets No. 12-69, 09-104 and 09-119 will remain open and will not be terminated at this time. For the reasons set out below, CGB declines the request of the Children's Media Policy Coalition that MB Docket No. 04-261 remain open.

6. The Children's Media Policy Coalition (MB Docket No. 04-261). The Children's Media Policy Coalition asks that MB Docket No. 04-261 (Violent Television Programming and Its Impact on Children, Report) remain open “in order to allow for more discussion on ways ratings systems could be used and applied in today's media environment.” CGB does not find that closing MB Docket No. 04-261 will deter the discussion of television ratings systems. In this connection, CGB notes that another open proceeding has taken up a full review of this issue. MB Docket No. 04-261 was initiated to address a request from members of Congress to undertake an inquiry on television violence; further, that task was completed by the issuance of a Report in 2007. Since 2009, the docket has been inactive. Thus, CGB declines the Children's Media Policy Coalition's request and will terminate MB Docket No. 04-261. The Children's Media Policy Coalition also seeks clarification that termination of MB Docket No. 09-194 does not affect MM Docket No. 00-167. In response to that request, CGB hereby confirms that the status of MM Docket No. 00-167 is not affected by document DA 14-1871.

7. Competitive Carriers Association (WT Docket No. 12-69). On October 28, 2014, the Competitive Carriers Association (CCA) filed a letter in this proceeding requesting that WT Docket No. 12-69 (Promoting Interoperability in the 700 MHz Commercial Spectrum) be removed from the list of dormant proceedings designated for termination. CCA states that the Report and Order in this proceeding approved the implementation of a voluntary industry solution to establish interoperable LTE service in the Lower 700 MHz band. As a part of this voluntary industry solution, the Commission adopted license conditions for AT&T to hold the Lower 700 MHz B and C Block licenses, which includes the requirements that (1) AT&T deploy the Multi-Frequency Band Indicator software feature and transition to Band Class 12 capable devices; and (2) AT&T comply with reporting requirements by filing reports in WT Docket No. 12-69 that provide information on AT&T's progress in meeting these commitments. In light of the ongoing reporting of AT&T's progress in this docket, CGB agrees with CCA that this docket should not be closed. Accordingly, CGB will not terminate this proceeding at this time and it will remain open.

8. AT&T and Cellco Partnership D/B/A Verizon Wireless Seek FCC Consent to Assign or Transfer Control of Licenses and Authorizations and Modify a Spectrum Leasing Arrangement (WT Docket No. 09-104). Upon further review, CGB concludes that this docket was erroneously included on the list of dockets slated for closure attached to document DA 14-1354. There is currently pending a petition for reconsideration of the Commission's order in this docket, and this petition for reconsideration will be addressed in the near future. Accordingly, this docket will remain open.

9. Atlantic Tele-Network, Inc. and Verizon Wireless seek FCC Consent to Transfer Licenses and Authorizations (WT Docket No. 09-119). Upon further review, CGB concludes that this docket was erroneously included on the list of dockets slated for closure attached to document DA14-1354. There is currently pending two applications for review of an order issued by the Wireless Telecommunications Bureau. These applications for review will be addressed in the future. Accordingly, this docket will remain open.

10. Upon publication of document DA 14-1871 in the Federal Register, these proceedings will be terminated in the Electronic Comment Filing System (ECFS). The record in the terminated proceedings will remain part of the Commission's official records, and the various pleadings, orders, and other documents in these dockets will continue to be accessible to the public, post-termination.

Regulatory Flexibility Act

11. The Commission's action does not require notice and comment and is not subject to the Regulatory Flexibility Act of 1980, as amended. See 5 U.S.C. 601(2), 603(a). The Commission nonetheless notes that it anticipates that the rules adopted will not have a significant economic impact on a substantial number of small entities. As described above, the Commission primarily changes its own internal procedures and organizations and does not impose substantive new responsibilities on regulated entities. There is no reason to believe termination of certain dormant proceedings would impose significant costs on parties to Commission proceedings. To the contrary, the Commission takes the actions herein with the expectation that overall they will make dealings with the Commission quicker, easier, and less costly for entities of all size.

Congressional Review Act

The Commission will not send a copy of document DA 14-1871 pursuant to the Congressional Review Act, see 5 U.S.C. 801(a)(1)(A) because the Commission is not adopting, amending, revising, or deleting any rules.

Ordering Clauses

Pursuant to the authority contained in sections 4(i), and 4(j) of the Communications Act, 47 U.S.C. 154(i) and (j), and § 0.141 of the Commission's rules, that the proceedings set forth in document DA 14-1871 are terminated.

Federal Communications Commission.
Kris Anne Monteith,
Acting Chief, Consumer and Governmental Affairs Bureau.

[FR Doc. 2015-01702 Filed 1-28-15; 8:45 am]

BILLING CODE 6712-01-P